DEPARTMENT OF DEFENSE

Department of the Army

Army Science Board; Notice of Open Meeting

In accordance with section 10(a)(2) of the Federal Advisory Committee Act (Pub. L. 92-463), announcement is made of the following Committee Meeting:

Name of Committee: Army Science Board (ASB).

Date(s) of Meeting: May 20-22, 2002.

Time(s) of Meeting: 0800-1700—May 20, 2002, 0800-1700—May 21, 2002, 0800-1700—May 22, 2002.

Place: Institute for Defense Analysis.

1. AGENDA: The Integration and Analysis Panel of the Army Science Board FY02 Summer Study on “Ensuring the Financial Viability of the Objective Force” is holding a meeting on 20-22 May. The meeting will be held at IDA—4850 Mark Center Drive. The meeting will begin at 0800 hours on the 20th and will end at approximately 1700 hours on the 22nd. For further information, please contact LTC Mark Malcolm—703-604-7047 or e-mail: Malcolm, Mark A LTC DUSA(OR).

Wayne Joyner,
Program Support Specialist, Army Science Board.

[FR Doc. 02-12700 Filed 5-20-02; 8:45 am]

BILLING CODE 3710-08-M